SOCIAL SECURITY ADMINISTRATION

20 CFR Part 404

[Docket No. SSA-2006-0140]

RIN 0960-AF35

Revised Medical Criteria for Evaluating Neurological Disorders; Correction

AGENCY: Social Security Administration.

ACTION: Correcting amendment.

SUMMARY: We published final rules in the Federal Register on July 1, 2016, that revised the Listing of Impairments (Listings) for the neurological body system. That document inadvertently omitted a reference. This document amends and corrects the final rule.

DATES: This rule is effective August 22, 2017.

FOR FURTHER INFORMATION CONTACT: Cheryl A. Williams, Office of Disability Policy, Social Security Administration, 6401 Security Boulevard, Baltimore, Maryland 21235-6401, (410) 965-1020. For information on eligibility or filing for benefits, call our national toll-free number 1-800-772-1213, or TTY1-800-325-0778, or visit our Internet site, Social Security Online, at http://www.socialsecurity.gov.

SUPPLEMENTARY INFORMATION: On July 1, 2016, we published in the Federal Register the final rule, “Revised Medical Criteria for Evaluating Neurological Disorders.” (81 FR 43048). In appendix 1 to subpart P, the body system listing 11.00 Neurological Disorders, we inadvertently omitted a reference to 11.02D from 11.00H4 of the introductory text. The text in 11.02D on dyscognitive seizures refers to 11.00H4 (81 FR at 43056). However, the text of 11.00H4 only referenced 11.02A, B, and C (81 FR at 43054). This correction adds the missing reference to 11.02D to 11.00H4 and creates no change in policy.

(Catalog of Federal Domestic Assistance Program Nos. 96.001, Social Security—Disability Insurance; 96.002, Social Security— Retirement Insurance; 96.004, Social Security—Survivors Insurance; and 96.006, Supplemental Security Income).

List of Subjects in 20 CFR Part 404

Administrative practice and procedure, Blind, Disability benefits, Old-age, Survivors, and Disability Insurance, Reporting and recordkeeping requirements, Social Security.

Nancy A. Berryhill,
Acting Commissioner of Social Security.

For the reasons set out in the preamble, we are amending 20 CFR part 404, subpart P as set forth below:

PART 404—FEDERAL OLD-AGE, SURVIVORS AND DISABILITY INSURANCE (1950-)

Subpart P—Determining Disability and Blindness

1. The authority citation for subpart P of part 404 continues to read as follows:

Authority: Secs. 202, 205(a)-(b) and (d)-(h), 216(i), 221(a) and (h)-(j), 222(c), 223, 225, and 702(a)(5) of the Social Security Act (42 U.S.C. 402, 405(a)-(b) and (d)-(h), 416(i), 421(a), (i), and (j), 422(c), 423, 425, and 902(a)(5)); sec. 211(b), Pub. L. 104-193, 110 Stat. 2105, 2189; sec. 202, Pub. L. 108-203, 118 Stat. 509 (42 U.S.C. 902 note).

2. Amend appendix 1 to subpart P of part 404, by revising the first sentence of 11.00H4 to read as follows:

Appendix 1 to Subpart P of Part 404—Listing of Impairments

* * * * *

11.00 NEUROLOGICAL DISORDERS

* * * * *

H. * * *

4. Counting seizures. The period specified in 11.02A, B, C, or D cannot begin earlier than one month after you began prescribed treatment. * * *

* * * * *

[FR Doc. 2017-17724 Filed 8-21-17; 8:45 am]

BILLING CODE 4191-02-P